ENVIRONMENTAL PROTECTION AGENCY

[FRL-10000-24-OA]

Notification of a Public Meeting of the Science Advisory Board All-Ages Lead Model Review Panel

AGENCY: Environmental Protection Agency (EPA).

ACTION: Announcement of meeting.

SUMMARY: The Environmental Protection Agency (EPA) Science Advisory Board (SAB) Staff Office announces a public meeting of the SAB's All-Ages Lead Model (AALM) Panel. The Panel will meet to conduct a peer review the EPA's AALM External Review Draft Version 2.0, comprising the model's software, technical documentation, and user manual (hereafter referred to collectively as AALM 2.0). The AALM 2.0 was developed by EPA's Office of Research and Development.

DATES: The two-day public meeting will be held October 17-18, 2019, from 9 a.m. until 5:30 p.m. the first day and from 8:30 a.m. until 3:30 p.m. the second day (Eastern Time).

ADDRESSES: The meeting will be held at the Crystal Gateway Marriott, 1700 Jefferson Davis Highway, Arlington, VA 20002.

FOR FURTHER INFORMATION CONTACT: Any member of the public wishing further information regarding this public meeting may contact Iris Goodman, Designated Federal Officer (DFO), EPA Science Advisory Board Staff (SAB) Office, by telephone at (202) 564-2164, or by email at goodman.iris@epa.gov. The SAB mailing address is U.S. EPA Science Advisory Board (1400R), U.S. Environmental Protection Agency, 1200 Pennsylvania Avenue NW, Washington, DC 20460. General information about the SAB, including information concerning the SAB meeting announced in this notice, can be found at the SAB web page at http://epa.gov/sab.

Technical Contact for EPA's Draft Reports: For information concerning the EPA materials to be reviewed, please contact James Brown, by telephone at (919) 541-0765 or by email at brown.james@epa.gov.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for Agency positions and regulations. The SAB is a Federal Advisory Committee chartered under the Federal Advisory Committee Act (FACA), 5 U.S.C., App. 2. Pursuant to FACA and EPA policy, notice is hereby given that the SAB AALM Review Panel will hold a public meeting for its peer review of the AALM 2.0, which was developed by EPA's Office of Research and Development (ORD).

EPA's ORD requested that the SAB conduct a peer review of the AALM 2.0. The EPA SAB Staff Office formed a Panel of subject matter experts to provide advice to the Administrator through the chartered board regarding the AALM 2.0. The AALM Panel will provide advice to the Administrator through the chartered SAB. The public meeting on October 17-18, 2019, will be a two-day review of the AALM 2.0. All draft reports developed by SAB panels, committees, or workgroups are reviewed and approved by the Chartered SAB through a quality review process before being finalized and transmitted to the EPA Administrator. The AALM Review Panel will comply with the provisions of FACA and all appropriate SAB Staff Office procedural policies.

Availability of the Meeting Materials: Prior to the meeting, the following materials will be posted on the SAB website (http://www.epa.gov/sab): The meeting agenda, charge questions, EPA presentations, the link to the AALM 2.0 software, technical documentation, and user manual. To locate meeting materials, go to www.epa.gov/sab and click on “Upcoming and Recent Meetings” to get to the SAB calendar. From the calendar, click on October 17, 2019. For questions concerning EPA's AALM materials to be reviewed, please contact Dr. James Brown, EPA Office of Research and Development, at brown.james@epa.gov.

Procedures for Providing Public Input: Public comment for consideration by EPA's federal advisory committees and panels has a different purpose from public comment provided to the EPA program offices. The process for submitting comments to a federal advisory committee is thus different from the process used to submit comments to an EPA program office. Federal advisory committees and panels, including scientific advisory panels, provide independent advice to the EPA. Members of the public can submit relevant comments pertaining to the EPA's charge, meeting materials, or the group providing the advice. Input from the public to the SAB will have the most impact if it provides specific scientific or technical information or analysis for the SAB to consider or if it relates to the clarity or accuracy of the technical information. Members of the pubic wishing to provide comment should follow the instructions below to submit comments.

Oral Statements: In general, individuals or groups requesting to make an oral presentation at the meeting will be limited to five minutes during a public comment period. Interested parties wishing to provide comments should contact Iris Goodman, DFO, in writing (preferably via email), at the contact information noted above by October 10, 2019, to be placed on the list of public speakers.

Written Statements: Written statements will be accepted throughout the advisory process; however, for timely consideration by the AALM Review Panel, statements should be supplied to the DFO (preferably via email) at the contact information above by October 10, 2019 (7 days prior to meeting). It is the SAB Staff Office general policy to post written comments on the web page for the advisory meeting or teleconference. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Iris Goodman at 202-564-2164, or goodman.iris@epa.gov, preferably at least ten days prior to the meeting to give the EPA as much time as possible to process your request.

Dated: September 16, 2019.
Khanna Johnston,
Deputy Director, EPA Science Advisory Board Staff Office.

[FR Doc. 2019-20677 Filed 9-23-19; 8:45 am]

BILLING CODE 6560-50-P